SMALL BUSINESS ADMINISTRATION

Region II Buffalo District Advisory Council; Public Meeting

Pursuant to the Federal Advisory Committee Act, Appendix 2 of Title 5, United States Code, Public Law 92-463, notice is hereby given that the U.S. Small Business Administration, Buffalo District Advisory Council will hold a federal public meeting on Wednesday, October 17, 2007, starting at 10 a.m. eastern standard time. The meeting will take place at the Buffalo Club, 388 Delaware Avenue, Buffalo, New York.

The purpose of the meeting is to discuss such matters that may be presented by members, and staff of the U.S. Small Business Administration, or others present.

Anyone wishing to make an oral presentation to the Board must contact Franklin J. Sciortino, District Director, Buffalo District Office, in writing by letter or fax no later than Friday, October 12, 2007 in order to be placed on the agenda. Franklin J. Sciortino, District Director, Buffalo District Office, U.S. Small Business Administration, Niagara Center, 540 Niagara Center, 130 Elmwood Avenue, Buffalo, New York 14202; telephone (716) 551-4301 or fax (716) 551-4418.

Matthew Teague,
Committee Management Officer.

[FR Doc. E7-20033 Filed 10-10-07; 8:45 am]

BILLING CODE 8025-01-P